DEPARTMENT OF THE TREASURY

Office of Foreign Assets Control

[Case IDs MALI-16234, MALI-16277, and MALI-EO13882-16735]

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On December 20, 2019, OFAC determined that the property and interests in property subject to U.S. jurisdiction of the following persons are blocked under the relevant sanctions authority listed below.

Individuals

1. AG ALHOUSSEINI, Houka Houka (a.k.a. IBN ALHOUSSEYNI, Mohamed; a.k.a. IBN AL-HUSAYN, Muhammad), Zouera, Mali; DOB 1962; alt. DOB 1963; alt. DOB 1964; POB Ariaw, Tombouctou region, Mali; nationality Mali; Gender Male (individual) [MALI-EO13882].

Designated pursuant to section 1(a)(i)(A) of E.O. 13882 for being responsible for or complicit in, or having directly or indirectly engaged in, actions or policies that threaten the peace, security, or stability of Mali.

2. BEN DAHA, Mahri Sidi Amar (a.k.a. DAHA, Sidi Amar Ould; a.k.a. DAHA, Yoro Ould; a.k.a. DAYA, Yoro Ould; a.k.a. “Yoro”), Golf Rue 708 Door 345, Gao, Mali; DOB 1978; POB Djebock, Mali; nationality Mali; Gender Male; National ID No. 11262/1547 (Mali) (individual) [MALI-EO13882].

Designated pursuant to section 1(a)(i)(A) of E.O. 13882 for being responsible for or complicit in, or having directly or indirectly engaged in, actions or policies that threaten the peace, security, or stability of Mali.

3. MATALY, Mohamed Ould, Golf Rue 708 Door 345, Gao, Mali; DOB 1958; nationality Mali; Gender Male; Passport D9011156 (Mali) (individual) [MALI-EO13882].

Designated pursuant to section 1(a)(i)(A) of E.O. 13882 for being responsible for or complicit in, or having directly or indirectly engaged in, actions or policies that threaten the peace, security, or stability of Mali.

4. MAHRI, Mohamed Ben Ahmed (a.k.a. DAYA, Mohamed Ould Mahri Ahmed; a.k.a. DEYA, Mohamed Ould Ahmed; a.k.a. “Mohamed Rouggy”; a.k.a. “Mohamed Rougie”; a.k.a. “Mohamed Rouji”; a.k.a. “Mohammed Rougi”), Bamako, Mali; DOB 1979; POB Tabankort, Mali; nationality Mali; Gender Male; Passport AA00272627 (Mali); alt. Passport AA0263957 (Mali) (individual) [MALI-EO13882].

Designated pursuant to section 1(a)(i)(A) of E.O. 13882 for being responsible for or complicit in, or having directly or indirectly engaged in, actions or policies that threaten the peace, security, or stability of Mali.

5. AG ALBACHAR, Ahmed (a.k.a. AG ALBACHAR, Intahmadou), Quartier Aliou, Kidal, Mali; DOB 31 Dec 1963; POB Tin-Essako, Kidal region, Mali; nationality Mali; Gender Male; National ID No. 1 63 08 4 01 001 005E (Mali) (individual) [MALI-EO13882].

Designated pursuant to section 1(a)(i)(E) of E.O. 13882 for being responsible for, or complicit in, or having directly or indirectly engaged in, obstructing the delivery or distribution of, or access to, humanitarian assistance, in relation to Mali.

Dated: May 6, 2020.
Andrea Gacki,
Director, Office of Foreign Assets Control.

[FR Doc. 2020-10000 Filed 5-8-20; 8:45 am]

BILLING CODE 4810-AL-P